DEPARTMENT OF AGRICULTURE

Forest Service

Yakutat Resource Advisory Committee

AGENCY: Forest Service, USDA.

ACTION: Notice of meeting.

SUMMARY: The Yakutat Resource Advisory Committee will meet in Yakutat, Alaska. The purpose of the meeting is to continue business of the Yakutat Resource Advisory Committee. The committee was formed to carry out the requirements of the Secure Rural Schools and Self-Determination Act of 2000. The agenda for this meeting is to finalize the form that the Yakutat Resource Advisory Committee will use to solicit project proposals and to determine what criteria they will use to select projects. The intent of the meeting is also to share with the public the project proposal process.

DATES: The meeting will be held February 7, 2003 from 6-9 p.m. and will continue on February 8, 2003 from 9-12 a.m., if necessary.

ADDRESSES: The meeting will be held at the Kwaan Conference Room, 712 Ocean Cape Drive, Yakutat, Alaska. Send written comments to Tricia O'Connor, c/o Forest Service, USDA, PO Box 327, Yakutat, AK 99689, (907) 784-3359 or electronically to poconnor@fs.fed.us.

FOR FURTHER INFORMATION CONTACT: Tricia O'Connor, District Ranger and Designated Federal Official, Yakutat Ranger District, (907) 784-3359.

SUPPLEMENTARY INFORMATION: The meeting is open to the public. Council discussion is limited to Forest Service staff and Council members. However, persons who wish to bring resource projects or other Resource Advisory Committee matters to the attention of the Council may file written statements with the Council staff before or after the meeting. Public input sessions will be provided and individuals who made written requests by January 31, 2003 will have the opportunity to address the Council at those sessions.

Dated: January 14, 2003.
Patricia M. O'Connor,
District Ranger, Yakutat Ranger District, Tongass National Forest.

[FR Doc. 03-1570 Filed 1-23-03; 8:45 am]

BILLING CODE 3410-11-M